DEPARTMENT OF JUSTICE

Notice of Lodging of Proposed Settlement Agreement Under the Clean Water Act

Notice is hereby given that, for a period of 30 days, the United States will receive public comments on a proposed Settlement Agreement and Final Judgment on Consent (“Settlement Agreement”) in United States v. ATP Oil & Gas Corp. et al. (Civil Action No. 2:13-cv-0262), which was lodged with the United States District Court for the Eastern District of Louisiana on November 19, 2015.

The Complaint in this case was filed against ATP Oil & Gas Corporation (“ATP”) and ATP Infrastructure Partners, LP (“ATP-IP”) in February 2013. The Complaint seeks civil penalties and injunctive relief under the Clean Water Act (“CWA”) and injunctive relief under the Outer Continental Shelf Lands Act (“OCSLA”) related to unauthorized discharges of oil and chemicals from an oil platform, the ATP Innovator, into the Gulf of Mexico. ATP is going through a Chapter 7 bankruptcy proceeding and is no longer operating.

Under the proposed Settlement Agreement, ATP agrees to a final civil penalty judgment of $38 million for multiple alleged violations of the Clean Water Act. The penalty judgment will be treated as an allowed unsecured claim in ATP's bankruptcy proceeding. A prior settlement approved by the district court in May 2015 resolved the claims against ATP-IP and secured penalties as well as OCSLA and CWA injunctive relief related to the safe future operation of the ATP Innovator in U.S. waters.

The publication of this notice opens a period for public comment on the proposed Settlement Agreement. Comments should be addressed to the Assistant Attorney General, Environment and Natural Resources Division, and should refer to United States v. ATP Oil & Gas Corp. et al. (Civil Action No. 2:13-cv-0262), D.J. Ref. No. 90-5-1-1-10681/1. All comments must be submitted no later than thirty (30) days after the publication date of this notice. Comments may be submitted either by email or by mail:

To submit comments: | Send them to:
By e-mail | pubcomment-ees.enrd@usdoj.gov.
By mail | Assistant Attorney General U.S. DOJ-ENRD P.O. Box 7611 Washington, D.C. 20044-7611.

During the public comment period, the proposed Settlement Agreement may be examined and downloaded at this Justice Department Web site: http://www.justice.gov/enrd/consent-decrees. We will provide a paper copy of the proposed Consent Decree upon written request and payment of reproduction costs. Please mail your request and payment to: Consent Decree Library,U.S. DOJ-ENRD,P.O. Box 7611,Washington, DC 20044-7611.

Please enclose a check or money order for $3.75 (25 cents per page reproduction cost) payable to the United States Treasury.

Thomas P. Carroll,
Assistant Section Chief, Environmental Enforcement Section, Environment and Natural Resources Division.

[FR Doc. 2015-30053 Filed 11-24-15; 8:45 am]

BILLING CODE 4410-15-P